DEPARTMENT OF HOMELAND SECURITY

Coast Guard

[Docket No. USCG-2022-0257]

National Merchant Mariner Medical Advisory Committee; August 2022 Virtual Meeting

AGENCY: Coast Guard, Department of Homeland Security.

ACTION: Notice of Federal Advisory Committee virtual meeting.

SUMMARY: The National Merchant Mariner Medical Advisory Committee (Committee) will conduct virtual meetings over a series of 3 days to discuss matters relating to medical certification determinations for issuance of licenses, certificates of registry, and merchant mariners' documents, medical standards and guidelines for the physical qualifications of operators of commercial vessels, medical examiner education, and medical research. One of the Committee's Working Groups will also be meeting. These virtual meetings will be open to the public.

DATES:

Meeting: The Committee and one of its Working Groups will meet virtually on Wednesday, August 3, 2022, from 10:00 a.m. until 3:00 p.m. Eastern Daylight Time, (EDT), Thursday, August 4, 2022 from 10:00 a.m. until 3:00 p.m. (EDT), and Friday, August 5, 2022 from 10:00 a.m. until 2:15 p.m. (EDT). The virtual meetings may adjourn early if the Committee has completed its business.

Comments and supporting documentation: To ensure your comments are received by Committee members before the virtual meeting, submit your written comments no later than July 27, 2022.

ADDRESSES: To join the virtual meeting or to request special accommodations, contact the individual listed in the FOR FURTHER INFORMATION CONTACT section no later than 1 p.m. EDT on July 27, 2022, to obtain the needed information. The number of virtual lines are limited and will be available on a first-come, first-served basis. The Committee is committed to ensuring all participants have equal access regardless of disability status. If you require reasonable accommodation due to a disability to fully participate, please email the individual in the FOR FURTHER INFORMATION section above as soon as possible.

Instructions: You are free to submit comments at any time, including orally at the virtual meetings as time permits, but if you want Committee members to review your comment before the teleconference, please submit your comments no later than July 27, 2022. We are particularly interested in comments on the issues in the “Agenda” section below. We encourage you to submit comments through the Federal eRulemaking Portal at https://www.regulations.gov. If your material cannot be submitted using https://www.regulations.gov, email the individual in the FOR FURTHER INFORMATION CONTACT section of this document for alternate instructions. You must include the docket number USCG-2022-0257. Comments received will be posted without alteration at http://www.regulations.gov, including any personal information provided. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Dr. Adrienne Buggs, Alternate Designated Federal Officer of the National Merchant Mariner Medical Advisory Committee, telephone 202-372-1211 or email adrienne.m.buggs@uscg.mil.

SUPPLEMENTARY INFORMATION: Notice of these meetings is in compliance with the Federal Advisory Committee Act (5 U.S.C. appendix). The Committee is authorized by § 601 of the Frank LoBiondo Coast Guard Authorization Act of 2018, and is codified in 46 U.S.C. 15104. The Committee operates under the provisions of the Federal Advisory Committee Act (5 U.S.C. Appendix), and 46 U.S.C. 15109. The Committee advises the Secretary of Homeland Security through the Commandant, Coast Guard on matters relating to: (a) medical certification determinations for issuance of licenses, certificates of registry, and merchant mariners' documents; (b) medical standards and guidelines for the physical qualifications of operators of commercial vessels; (c) medical examiner education; and (d) medical research.

Agenda: The National Merchant Mariner Medical Advisory Committee will meet on Wednesday, August 3, 2022, Thursday, August 4, 2022, and Friday, August 5, 2022 to review, discuss, deliberate and formulate recommendations, as appropriate on the following topics. One of the Committee's Working Groups will also be meeting.

Day 1

The agenda for the August 3, 2022 virtual meeting is as follows:

(1) The full Committee will meet briefly to discuss the Working Group business/task statement, which is listed under paragraph (6) under Day 3 below.

(2) The Working Group will then separately address and work on Task Statement 22-X1, Sexual Assault and Sexual Harassment Prevention and Culture Change in the Merchant Marine.

(3) Report of Working Group. At end of the day, the Chair of the Working Group will report to the full Committee on what was accomplished. The full Committee will not take action on this date and the Working Group will present a full report to the Committee on Day 3 of the meeting.

(4) Adjournment of meeting.

Day 2

The agenda for the August 4, 2022 virtual meeting is as follows:

(1) The full Committee will meet briefly to continue to discuss and work on Task Statement 22-X1, Sexual Assault and Sexual Harassment Prevention and Culture Change in the Merchant Marine.

(2) The Working Group will then separately address and continue to work on Task Statement 22-X1, Sexual Assault and Sexual Harassment Prevention and Culture Change in the Merchant Marine.

(3) Report of Working Group. At end of the day, the Chair of the Working Group will report to the full Committee on what was accomplished. The full Committee will not take action on this date and the Working Group will present a full report to the Committee on Day 3 of the meeting.

(4) Adjournment of meeting.

Day 3

The agenda for the August 5, 2022 virtual meeting is as follows:

(1) Introduction.

(2) Designated Federal Officer Remarks.

(3) Roll call of Committee members and determination of a quorum.

(4) Remarks from U.S. Coast Guard Leadership.

(5) Acceptance of Minutes from NMEDMAC Meeting 2.

(6) Presentation of Task: Task Statement 22-X1, Sexual Assault and Sexual

Harassment Prevention and Culture Change in the Merchant Marine.

(7) Coast Guard Presentations.

(8) Presentation from the Work Group Chairs.

The Committee will review the information presented on the following issues and deliberate on recommendations presented by the Work Groups, approve/formulate recommendations and close any completed tasks. Official action on these recommendations may be taken:

(a) Task Statement 21-01, Recommendations on Mariner Mental Health;

(b) Task Statement 21-02, Communication Between External Stakeholders and the Mariner Credentialing Program;

(c) Task Statement 21-03, Medical Certifications for Military to Mariner;

(d) Task Statement 21-04, Recommendations on Appropriate Diets and Wellness for Mariners While Onboard Merchant Vessels;

(e) Task Statement 21-06, Review of Medical Regulations and Policy to Identify Potential Barriers to Women in the U.S. Maritime Workforce; and

(f) Task Statement 22-X1, Sexual Assault and Sexual Harassment Prevention and Culture Change in the Merchant Marine.

(9) Public comment period.

(10) Closing remarks.

(11) Adjournment of meeting.

A copy of all meeting documentation will be available at https://homeport.uscg.mil/missions/federal-advisory-committees/national-merchant-mariner-medical-advisory-committee-(nmedmac) no later than July 27, 2022. Alternatively, you may contact the individual noted in the FOR FURTHER INFORMATION section above.

During the August 5, 2022 virtual meeting, a public comment period will be held immediately after the Presentation of Working Group Report and Recommendations, at approximately 1:30 p.m. EDT. Public comments will be limited to 3 minutes per speaker. Please note that the public comments period will end following the last call for comments. Please contact the individual listed in the FOR FURTHER INFORMATION CONTACT section to register as a speaker.

Dated: July 7, 2022.
Jeffrey G. Lantz,
Director of Commercial Regulations and Standards.

[FR Doc. 2022-14892 Filed 7-12-22; 8:45 am]

BILLING CODE 9110-04-P